ENVIRONMENTAL PROTECTION AGENCY

[EPA-HQ-OW-2014-0350; FRL 8818-01-OW]

Proposed Information Collection Request; Comment Request; National Fish Program (Renewal)

AGENCY: Environmental Protection Agency (EPA).

ACTION: Notice.

SUMMARY: The U.S. Environmental Protection Agency (EPA) is planning to submit an information collection request (ICR), “National Fish Program” (EPA ICR No. 1959.07, OMB Control No. 2040-0226) to the Office of Management and Budget (OMB) for review and approval in accordance with the Paperwork Reduction Act. Before doing so, EPA is soliciting public comments on specific aspects of the proposed information collection as described below. This is a proposed extension of the ICR, which is currently approved through April 30, 2022. An Agency may not conduct or sponsor and a person is not required to respond to a collection of information unless it displays a currently valid OMB control number.

DATES: Comments must be submitted on or before October 4, 2021.

ADDRESSES: Submit your comments, referencing Docket ID No. EPA-HQ-OW-2014-0350, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: CDR Samantha Fontenelle, Office of Science and Technology, Standards and Health Protection Division, Environmental Protection Agency, 1200 Pennsylvania Ave. NW, Washington, DC 20460; telephone number: (202) 566-2083; fax number: (202) 566-0409; email address: fontenelle.samantha@epa.gov.

SUPPLEMENTARY INFORMATION: Supporting documents which explain in detail the information that the EPA would be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR is for voluntary information collections under the national fish advisory program. These information collections would help EPA advance equitable and effective fish advisory programs that protect recreational and subsistence fishers and other underserved populations from consumption of contaminated fish. This information is collected under the authority of section 104 of the Clean Water Act, which provides for the collection of information to be used to protect human health and the environment. The information to be collected on a voluntary basis would include the following: Fish advisory information and fish tissue data collected to assist in making advisory decisions; state or tribal fish program information for the National Fish Advisory Program Evaluation; and, technical program information from time to time. EPA would analyze the information to determine what science, guidance, technical assistance, and nationwide information are needed to help state and tribes have equitable and effective fish advisory programs. In addition, EPA would also use the information provided to facilitate information sharing and to ensure guidance documents are useful and technically accurate.

This ICR renews the EPA ICR Number 1959.07, OMB Control No. 2040-0226, expiration April 30, 2022. This ICR renewal describes the estimated burden for states and authorized tribes associated with the information collections related to National Fish Program.

Form Numbers: None.

Respondents/affected entities: Potential respondents to this ICR include: The 50 states, the District of Columbia, the five territories, authorized tribes with EPA-approved WQS, and Great Lakes Fish and Wildlife Commission.

Respondent's obligation to respond: Voluntary (Clean Water Act, Section 104).

Estimated number of respondents: Up to 103 (total).

Frequency of response: Once in 3-year period for some collections; periodically for one collection.

Total estimated burden: 1,181 hours per year. Burden is defined at 5 CFR 1320.03(b).

Total estimated cost: $64,766.66 per year. There are no capital or operation & maintenance costs.

Changes in Estimates: There is increase of 603 hours in the total estimated annual respondent burden compared with the ICR currently approved by OMB. This increase is due to EPA's efforts to advance equity and environmental justice in fish advisory programs. EPA is adding information collections to help EPA determine what science, guidance, technical assistance, and nationwide information are needed to help state and tribes have equitable and effective fish advisory programs that protect recreational and subsistence fishers and other underserved populations from consumption of contaminated fish. In addition, EPA would also use the information provided to facilitate information sharing and to ensure guidance documents are useful and technically accurate. The increase pertains to the addition of three voluntary information collections as part of implementing the EPA national advisory program: Information on state and tribal fish advisories; state and tribal program information for the National Fish Advisory Program Evaluation; and, technical program information from time to time.

Deborah Nagle,
Director, Office of Science and Technology, Office of Water.

[FR Doc. 2021-16512 Filed 8-2-21; 8:45 am]

BILLING CODE 6560-50-P